DEPARTMENT OF TRANSPORTATION (DOT)

Federal Aviation Administration

14 CFR Part 39

[Docket No. FAA-2004-19752; Directorate Identifier 2004-NM-170-AD]

RIN 2120-AA64

Airworthiness Directives; Saab Model SAAB SF340A and SAAB 340B Series Airplanes

AGENCY: Federal Aviation Administration (FAA), DOT.

ACTION: Notice of proposed rulemaking (NPRM).

SUMMARY: The FAA proposes to adopt a new airworthiness directive (AD) for certain Saab Model SAAB SF340A and SAAB 340B series airplanes. This proposed AD would require repetitive inspections for wear of the brushes and leads and for loose rivets of the direct current (DC) starter generator, and related investigative/corrective actions if necessary. This proposed AD is prompted by reports of premature failures of the DC starter generator prior to scheduled overhaul. We are proposing this AD to prevent failure of the starter generator, which could cause a low voltage situation in flight and result in increased pilot workload and reduced redundancy of the electrical powered systems.

DATES: We must receive comments on this proposed AD by January 3, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Saab Aircraft AB, SAAB Aircraft Product Support, S-581.88, Linköping, Sweden.

You can examine the contents of this AD docket on the Internet at http://dms.dot.gov, or in person at the Docket Management Facility, U.S. Department of Transportation, 400 Seventh SW., room PL-401, on the plaza level of the Nassif Building, Washington, DC. This docket number is FAA-2004-19752; the directorate identifier for this docket is 2004-NM-170-AD.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19752; Directorate Identifier 2004-NM-170-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESS section. Comments will be available in the AD docket shortly after the DMS receives them.

Discussion

The Luftfartsverket (LFV), which is the airworthiness authority for Sweden, notified us that an unsafe condition may exist on certain Saab Model SAAB SF340A and SAAB 340B series airplanes. The LFV advises that it has received reports of premature failures of the direct current (DC) starter generator. Failure of the starter generator could cause a low voltage situation in flight and result in increased pilot workload and reduced redundancy of the electrical powered systems.

Relevant Service Information

Saab has issued Service Bulletin 340-24-035, dated July 5, 2004. The service bulletin describes procedures for repetitive visual inspections for wear of the brushes and leads and for loose rivets of the DC starter generator. The service bulletin also specifies replacing the starter generator with a new or serviceable starter generator for brush wear that is outside certain specified limits or if any loose rivet is found. The LFV mandated the service information and issued Swedish airworthiness directive 1-196 R1, effective July 15, 2004, to ensure the continued airworthiness of these airplanes in Sweden.

The Saab service bulletin references Goodrich Service Information Letter 23080-03X-24-01, dated July 1, 2004, as an additional source of service information.

FAA's Determination and Requirements of the Proposed AD

These airplane models are manufactured in Sweden and are type certificated for operation in the United States under the provisions of § 21.29 of the Federal Aviation Regulations (14 CFR 21.29) and the applicable bilateral airworthiness agreement. Pursuant to this bilateral airworthiness agreement, the LFV has kept the FAA informed of the situation described above. We have examined the LFV's findings, evaluated all pertinent information, and determined that we need to issue an AD for products of this type design that are certificated for operation in the United States.

Therefore, we are proposing this AD, which would require accomplishing the actions specified in the Saab service information described previously.

Interim Action

This is considered to be interim action until final action is identified, at which time we may consider further rulemaking.

Costs of Compliance

This proposed AD would affect about 170 airplanes of U.S. registry. The proposed actions would take about 1 work hour per airplane, at an average labor rate of $65 per work hour. Based on these figures, the estimated cost of the proposed AD for U.S. operators is $11,050, per inspection cycle, or $65 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

SAAB Aircraft AB: Docket No. FAA-2004-19752; Directorate Identifier 2004-NM-170-AD.

Comments Due Date

(a) The Federal Aviation Administration must receive comments on this AD action by January 3, 2005.

Applicability

(b) This AD applies to Saab Model SAAB SF340A series airplanes having serial numbers 004 through 159 inclusive, and model SAAB 340B series airplanes having serial numbers 160 through 367 inclusive; certificated in any category; on which Saab Service Bulletin SB 340-24-026 (Modification 2533) has not been implemented.

Unsafe Condition

(c) This AD was prompted by reports of premature failures of the direct current (DC) starter generator prior to scheduled overhaul. We are issuing this AD to prevent failure of the starter generator, which could cause a low voltage situation in flight and result in increased pilot workload and reduced redundancy of the electrical powered systems.

Compliance

(d) You are responsible for having the actions required by this AD performed within the compliance times specified, unless the actions have already been done.

Inspections for Wear of the DC Starter Generator Brushes and Leads

(e) For generators overhauled in accordance with Maintenance Review Board (MRB) Task 243104: Before 800 flight hours since the last overhaul or within 100 flight hours after the effective date of this AD, whichever occurs later, perform a general visual inspection for wear of the DC starter generator brushes and leads, in accordance with Saab Service Bulletin 340-24-0035, dated July 5, 2004.

Note 1: For the purposes of this AD, a general visual inspection is “a visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Note 2: Saab Service Bulletin 340-24-035, dated July 5, 2004, references Goodrich Service Information Letter 23080-30X-24-01, dated July 1, 2004, as an additional source of service information.

(1) If the tops of the brush sets are above the top of the brush box, repeat the inspection at intervals not to exceed 800 flight hours.

(2) If the tops of the brush sets are below the top of the brush box, before further flight, measure the brushes and determine the remaining amount of brush life remaining, in accordance with the service bulletin.

(i) If the brush wear is within the limits specified in the service bulletin, repeat the inspection at intervals not to exceed 800 flight hours.

(ii) If the brush wear is outside the limits specified in the service bulletin, before further flight, replace the starter generator with a new or serviceable starter generator, in accordance with the service bulletin.

Inspections for Loose Rivets

(f) For generators overhauled in accordance with MRB task 243104: Before 800 flight hours since last overhaul or within 100 flight hours after the effective date of this AD, whichever occurs later, perform a general visual inspection of each leading wafer brush for loose rivets, in accordance with Saab Service Bulletin 304-24-035, dated July 5, 2004. Repeat the inspections at intervals not to exceed 800 flight hours. If any rivet is loose, before further flight, replace the DC starter generator with a new or serviceable starter generator, in accordance with the service bulletin.

MRB Task 243103 or 243101

(g) For generators overhauled or with brush replacement accomplished in accordance with MRB Task 243103 or 243101, no action is required by this AD.

Alternative Methods of Compliance (AMOCs)

(h) The Manager, International Branch, ANM-116, FAA, Transport Airplane Directorate, FAA, has the authority to approve AMOCs for this AD, if requested in accordance with the procedures found in 14 CFR 39.19.

Related Information

(i) Swedish airworthiness directive 1-196 R1, effective July 15, 2004, also addresses the subject of this AD.

Issued in Renton, Washington, on November 17, 2004.
Ali Bahrami,
Manager, Transport Airplane Directorate, Aircraft Certification Service.

[FR Doc. 04-26495 Filed 11-30-04; 8:45 am]

BILLING CODE 4910-13-M